DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Gathering Observational Data on Historical and Current Biological Trends among Populations of Alewife (Alosa pseudoharengus) and Blueback Herring (A. aestivalis).

OMB Control Number: 0648-xxxx.

Form Number(s): NA.

Type of Request: Regular submission (request for a new information collection).

Number of Respondents: 500.

Average Hours Per Response: Interview scheduling, 10 minutes; interview, 15 minutes.

Burden Hours: 208.

Needs and Uses: This request is for a new information collection.

The purpose of this information collection is to gather historical and current population and biological information from commercial and recreational harvesters of the two species of river herring; alewife (Alosa pseudoharengus) and blueback (A. aestivalis). Given that commercial and recreational fishermen have a unique and important understanding of the long term status of the species for which they are fishing, NOAA intends to contact both current and retired recreational and commercial harvesters of river herring from Maine to North Carolina, to inquire about recent and long-term observations of changes in run-timing, abundance, distribution, individual size and species composition. Results will be used to assist NOAA in identifying observational trends among river herring populations throughout their range so as to make more informed decisions with respect to their management.

Affected Public: Business or other for-profit organizations; individuals or households.

Frequency: One time.

Respondent's Obligation: Voluntary.

This information collection request may be viewed at reginfo.gov. Follow the instructions to review Department of Commerce collections currently under review by OMB.

Written comments and recommendations for the proposed information collection should be sent within 30 days of publication of this notice to OIRA_Submission@omb.eop.gov or faxed to (202) 395-5806.

Dated: June 23, 2014.
Gwellnar Banks,
Management Analyst, Office of the Chief Information Officer.

[FR Doc. 2014-15038 Filed 6-26-14; 8:45 am]

BILLING CODE 3510-22-P